DEPARTMENT OF ENERGY

Federal Energy Regulatory Commission

[Docket No. EL12-103-000]

J.P. Morgan Ventures Energy Corporation; Notice of Initiation of Proceeding and Refund Effective Date

On September 20, 2012, the Commission issued an order that initiated a proceeding in Docket No. EL12-103-000, pursuant to section 206 of the Federal Power Act (FPA), 16 U.S.C. 824e (2006), to determine whether several statements by J.P. Morgan Ventures Energy Corporation constitute violations of section 35.41(b) of the Commission's regulations under the Federal Power Act (FPA).¹ J.P. Morgan Ventures Energy Corporation, 140 FERC ¶ 61,227 (2012).

¹ 18 CFR 35.41(b) (2012).

The refund effective date in Docket No. EL12-103-000, established pursuant to section 206(b) of the FPA, will be the date of publication of this notice in the Federal Register. In addition, answers, comments and interventions must be filed within 21 days of publication of this notice in the Federal Register.

Dated: September 21, 2012.
Nathaniel J. Davis, Sr.,
Deputy Secretary.

[FR Doc. 2012-23661 Filed 9-25-12; 8:45 am]

BILLING CODE 6717-01-P